DEPARTMENT OF HOMELAND SECURITY

Federal Emergency Management Agency

[Docket ID FEMA-2014-0002; Internal Agency Docket No. FEMA-B-1439]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Connecticut: New Haven | Town of Branford (14-01-0158P) | The Honorable James B. Cosgrove, First Selectman, Town of Branford, 10919 Main Street, Branford, CT 06405 | Town Hall, 1019 Main Street, Branford, CT 06405 | http://www.msc.fema.gov/lomc | December 12, 2014 | 090073
Illinois:
Adams | City of Quincy (14-05-4520P) | The Honorable Kyle Moore, Mayor, City of Quincy, 730 Maine Street, Quincy, IL 62301 | City Hall, 730 Maine Street, Quincy, IL 62301 | http://www.msc.fema.gov/lomc | December 19, 2014 | 170003
Adams | Unincorporated Areas of Adams County (14-05-4520P) | The Honorable Les Post, Chairman, Adams County, 101 North 54th Street, Quincy, IL 62305 | Adams County Highway Department, 101 North 54th Street, Quincy, IL 62305 | http://www.msc.fema.gov/lomc | December 19, 2014 | 170001
Maine: Hancock | Town of Deer Isle (14-01-1320P) | The Honorable Neville Hardy, First Selectman, Town of Deer Isle, 70 Church Street, Deer Isle, ME 04627 | Town Hall, 70 Church Street, Deer Isle, ME 04627 | http://www.msc.fema.gov/lomc | November 20, 2014 | 230280
Massachusetts: Bristol | Town of Dartmouth (14-01-1022P) | The Honorable Shawn D. McDonald, Select Board Member, Town of Dartmouth, 400 Slocum Road, Dartmouth, MA 02747 | 400 Slocum Road, Dartmouth, MA 02747 | http://www.msc.fema.gov/lomc | December 19, 2014 | 250051
Washington: King | City of Shoreline (14-10-0909P) | The Honorable Keith McGlashan, Mayor, City of Shoreline, 17500 Midvale Avenue North, Shoreline, WA 98133 | 17500 Midvale Avenue North, Shoreline, WA 98133 | http://www.msc.fema.gov/lomc | December 15, 2014 | 530327
Wisconsin:
Brown | Unincorporated Areas of Brown County (14-05-2566P) | Mr. Troy Streckenbach, County Executive, Brown County, 305 East Walnut Street, Green Bay, WI 54305 | 305 East Walnut Street, Green Bay, WI 54305 | http://www.msc.fema.gov/lomc | December 10, 2014 | 550020
Brown | Unincorporated Areas of Brown County (14-05-3376P) | Mr. Troy Streckenbach, County Executive, Brown County, 305 East Walnut Street, Green Bay, WI 54305 | 305 East Walnut Street, Green Bay, WI 54305 | http://www.msc.fema.gov/lomc | December 5, 2014 | 550020
Brown | Village of Wrightstown (14-05-3375P) | Mr. Dean Erickson, Village President, Village of Wrightstown, 352 High Street, Wrightstown, WI 54180 | Village Hall, 352 High Street, Wrightstown, WI 54180 | http://www.msc.fema.gov/lomc | December 5, 2014 | 550025
Outagamie | Unincorporated Areas of Outagamie County (14-05-3375P) | Mr. Thomas M. Nelson, County Executive, Outagamie County, 410 South Walnut Street, Appleton, WI 54911 | 410 South Walnut Street, Appleton, WI 54911 | http://www.msc.fema.gov/lomc | December 5, 2014 | 550302

(Catalog of Federal Domestic Assistance No. 97.022, “Flood Insurance.”)

Dated: August 26, 2014.
Roy E. Wright,
Deputy Associate Administrator for Mitigation, Department of Homeland Security, Federal Emergency Management Agency.

[FR Doc. 2014-21894 Filed 9-12-14; 8:45 am]

BILLING CODE 9110-12-P